OFFICE OF PERSONNEL MANAGEMENT

5 CFR Part 532

Prevailing Rate Systems

CFR Correction

In Title 5 of the Code of Federal Regulations, Parts 1 to 699, revised as of January 1, 2017, on page 464, in Part 532, Subpart B, Appendix C, under MINNESOTA, Minneapolis-St. Paul, Area of Application. Survey area plus:, Minnesota:, the first occurrence of “Freeborn” is replaced with “Fillmore”.

[FR Doc. 2017-13805 Filed 6-29-17; 8:45 am]

BILLING CODE 1301-00-D